DEPARTMENT OF AGRICULTURE

Forest Service

Notice of Proposed Fee Increase; Federal Lands Recreation Enhancement Act, (Title VIII, Pub. L. 108-447)

AGENCY: Ashley National Forest, USDA Forest Service.

ACTION: Notice of Proposed Fee Increase.

SUMMARY: The Ashley National Forest is proposing to increase the fee for Christmas tree permits from $10.00 to $15.00 per tag. This increase is proposed and will be determined upon further analysis and public comment. Funds from fees would be used for the continued operation of the Christmas tree program, including visitor services, maps, and law enforcement.

DATES: Comments will be accepted through May 30, 2015. Increased fees would begin November 2015.

ADDRESSES: Send comments to: Lesley Tullis, Environmental Coordinator, Ashley National Forest, 355 North Vernal Avenue, Vernal, Utah 84078 (email comments-intermtn-ashley@fs.fed.us; please put “Christmas trees” in the subject line).

FOR FURTHER INFORMATION CONTACT: Louis Haynes, Public Affairs Officer, at 435-789-1181. Information about proposed fee changes can also be found on the Ashley National Forest Web site: http://www.fs.usda.gov/ashley.

SUPPLEMENTARY INFORMATION: The Federal Recreation Lands Enhancement Act (Title VII, Pub. L. 108-447) directed the Secretary of Agriculture to publish a six month advance notice in the Federal Register whenever new recreation fee areas are established.

Once public involvement is complete, the fee increases will be reviewed by a Recreation Resource Advisory Committee prior to a final decision and implementation.

Dated: February 24, 2015.
John R. Erickson,
Forest Supervisor.

[FR Doc. 2015-06156 Filed 3-17-15; 8:45 am]

BILLING CODE 3410-11-P